DEPARTMENT OF TRANSPORTATION

Surface Transportation Board

[STB Finance Docket No. 34951 (Sub-No. 1)]

Portland & Western Railroad, Inc.—Trackage Rights Exemption—BNSF Railway Company

AGENCY: Surface Transportation Board, DOT.

ACTION: Petition for partial revocation.

SUMMARY: The Board, under 49 U.S.C. 10502, exempts the trackage rights described in Portland & Western Railroad, Inc.—Trackage Rights Exemption—BNSF Railway Company, STB Finance Docket No. 34951 (STB served Nov. 22, 2006) ¹ to permit them to expire on May 30, 2016, in accordance with the agreement of the parties, subject to the employee protective conditions set forth in Oregon Short Line R. Co.—Abandonment—Goshen, 360 I.C.C. 91 (1979).

¹ On November 3, 2006, Portland & Western Railroad, Inc. (PNWR), filed a notice of exemption under the Board's class exemption procedures at 49 CFR 1180.2(d)(7). That notice covered the agreement by BNSF Railway Company (BNSF) to grant overhead trackage rights to PNWR over BNSF's rail lines between: (a) Milepost 10.0 in Vancouver, WA, on the BNSF Fallbridge Subdivision, and milepost 0.69 (Main Track 1) and milepost 0.91 (Main Track 2) in Portland, OR; and (b) milepost 132.5 and milepost 136.5 in Vancouver, WA, on the BNSF Seattle Subdivision, a total distance of approximately 13.31 miles. The trackage rights operations under the exemption were scheduled to be consummated on or after November 13, 2006.

DATES: The exemption will be effective on April 11, 2007. Petitions to stay must be filed by March 22, 2007. Petitions to reopen must be filed by April 2, 2007.

ADDRESSES: An original and 10 copies of all pleadings, referring to STB Finance Docket No. 34951 (Sub-No. 1) must be filed with the Surface Transportation Board, 395 E Street, SW., Washington, DC 20423-0001. In addition, a copy of all pleadings must be served on petitioner's representative: Eric M. Hocky, Gollatz, Griffin & Ewing, P.C., Four Penn Center Plaza, Suite 200, 1600 John F. Kennedy Blvd., Philadelphia, PA 19103-2808.

FOR FURTHER INFORMATION CONTACT: Julia Farr, (202) 245-0359. [Assistance for the hearing impaired is available through the Federal Information Relay Service (FIRS) at 1-800-877-8339.]

SUPPLEMENTARY INFORMATION: Additional information is contained in the Board's decision. To purchase a copy of the full decision, write, e-mail, or call: ASAP Document Solutions, 9332 Annapolis Rd., Suite 103, Lanham, MD 20706; e-mail: asapdc@verizon.net; telephone: (202) 306-4004. [Assistance for the hearing impaired is available through FIRS at 1-800-877-8339.]

Board decisions and notices are available on our Web site at http://www.stb.dot.gov.

Decided: March 5, 2007.
By the Board, Chairman Nottingham, Vice Chairman Buttrey, and Commissioner Mulvey.
Vernon A. Williams,
Secretary.

[FR Doc. E7-4423 Filed 3-9-07; 8:45 am]

BILLING CODE 4915-01-P